OFFICE OF PERSONNEL MANAGEMENT

5 CFR Part 532

RIN 3206-AM70

Prevailing Rate Systems; Redefinition of the St. Louis, MO; Southern Missouri; Cleveland, OH; and Pittsburgh, PA, Appropriated Fund Federal Wage System Wage Areas

AGENCY: U.S. Office of Personnel Management.

ACTION: Proposed rule with request for comments.

SUMMARY: The U.S. Office of Personnel Management is issuing a proposed rule that would redefine the geographic boundaries of the St. Louis, MO; Southern Missouri; Cleveland, OH; and Pittsburgh, PA, appropriated fund Federal Wage System wage areas. The proposed rule would redefine Bollinger, Cape Girardeau, and Perry Counties, MO, from the Southern Missouri wage area to the St. Louis wage area and Mercer County, PA, from the Pittsburgh wage area to the Cleveland wage area. These changes are based on recent consensus recommendations of the Federal Prevailing Rate Advisory Committee to best match the counties proposed for redefinition to a nearby FWS survey area. This proposed rule makes two additional corrections. It renames the Champaign-Urbana, IL, wage area as the Central Illinois wage area and updates the name of the White Sands Proving Ground in the Albuquerque, NM, and El Paso, TX, wage areas to White Sands Missile Range.

DATES: We must receive comments on or before December 17, 2012.

ADDRESSES: Send or deliver comments to Jerome D. Mikowicz, Deputy Associate Director for Pay and Leave, Employee Services, U.S. Office of Personnel Management, Room 7H31, 1900 E Street NW., Washington, DC 20415-8200; email pay-leave-policy@opm.gov; or FAX: (202) 606-4264.

FOR FURTHER INFORMATION CONTACT: Madeline Gonzalez, (202) 606-2838; email pay-leave-policy@opm.gov; or FAX: (202) 606-4264.

SUPPLEMENTARY INFORMATION: The U.S. Office of Personnel Management is issuing a proposed rule that would redefine the geographic boundaries of the St. Louis, MO; Southern Missouri; Cleveland, OH; and Pittsburgh, PA, appropriated fund Federal Wage System (FWS) wage areas. The proposed rule would redefine Bollinger, Cape Girardeau, and Perry Counties, MO, from the Southern Missouri wage area to the St. Louis wage area and Mercer County, PA, from the Pittsburgh wage area to the Cleveland wage area.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances.

OPM recently completed reviews of the definitions of the Cape Girardeau-Jackson, MO-IL and Youngstown-Warren-Boardman, OH-PA MSAs and, based on analyses of the regulatory criteria for defining wage areas, is proposing the changes described below. The Federal Prevailing Rate Advisory Committee (FPRAC), the national labor-management committee responsible for advising OPM on matters concerning the pay of FWS employees, recommended these changes by consensus. These changes would be effective on the first day of the first applicable pay period beginning on or after 30 days following publication of the final regulations. FPRAC recommended no other changes in the geographic definitions of the St. Louis, Southern Missouri, Cleveland, and Pittsburgh wage areas.

Cape Girardeau-Jackson, MO-IL Metropolitan Statistical Area

Alexander County, IL, and Bollinger and Cape Girardeau Counties, MO, comprise the Cape Girardeau-Jackson, MO-IL MSA. The Cape Girardeau-Jackson MSA is currently split between the St. Louis, MO, and Southern Missouri wage areas. Alexander County is part of the area of application of the St. Louis wage area and Bollinger and Cape Girardeau Counties are part of the area of application of the Southern Missouri wage area.

Based on an analysis of the regulatory criteria for Cape Girardeau County, the core county in the Cape Girardeau-Jackson MSA, we recommend that the entire Cape Girardeau-Jackson MSA be defined to the St. Louis area of application. The distance criterion for Cape Girardeau County favors the St. Louis wage area more than the Southern Missouri wage area. The commuting patterns criterion does not favor one wage area more than another. Cape Girardeau County does not resemble one survey area more than another survey area in terms of the overall population, employment, and the kinds and sizes of private industrial establishments criteria. Based on this analysis, we find that Cape Girardeau County would be more appropriately defined to the St. Louis wage area. Since there appear to be no unusual circumstances that would permit splitting the Cape Girardeau-Jackson MSA, OPM proposes to also redefine Bollinger County to the St. Louis wage area so that the entire Cape Girardeau-Jackson MSA is in one wage area. There are currently nine FWS employees working in Cape Girardeau County. There are currently no FWS employees working in Bollinger County.

Because Perry County, MO, borders Bollinger and Cape Girardeau Counties to the north and is located in between the Cape Girardeau-Jackson MSA and the St. Louis wage area, Perry County would be redefined to the St. Louis wage area. The distance criterion for Perry County favors the St. Louis wage area more than the Southern Missouri wage area. The commuting patterns criterion favors the St. Louis wage area more than the Southern Missouri wage area. Perry County does not resemble one survey area more than another survey area in terms of the overall population, employment, and the kinds and sizes of private industrial establishments criteria. Based on this analysis, we find that Perry County would be more appropriately defined to the St. Louis wage area. There are currently no FWS employees working in Perry County.

Youngstown-Warren-Boardman, OH-PA Metropolitan Statistical Area

Trumbull and Mahoning Counties, OH, and Mercer County, PA, comprise the Youngstown-Warren-Boardman, OH-PA MSA. The Youngstown-Warren-Boardman MSA is currently split between the Cleveland, OH, and Pittsburgh, PA, wage areas. Trumbull and Mahoning Counties are part of the area of application of the Cleveland wage area, and Mercer County is part of the area of application of the Pittsburgh wage area.

Based on an analysis of the regulatory criteria for Mahoning County, the core county in the Youngstown-Warren-Boardman MSA, the entire Youngstown-Warren-Boardman MSA would be defined to the Cleveland wage area. The distance criterion does not favor one wage area more than another. We believe distance is not a determining factor in this case. The commuting patterns criterion does not favor one wage area more than another. The difference between the resident workforce commuting to work in the Cleveland and Pittsburgh survey areas is insignificant; however, marginally more people commute into the Cleveland survey area (1.23 percent) than into the Pittsburgh survey area (0.76 percent). The overall population and employment and the kinds and sizes of private industrial establishments criteria do not favor one wage area more than another.

Based on the mixed nature of the regulatory analysis findings, we believe the fact that the city of Youngstown in Mahoning County is generally considered to be part of the greater Cleveland area provides sufficient evidence that Mahoning County is appropriately defined to the Cleveland wage area. OPM regulations at 5 CFR 532.211 permit splitting MSAs only in very unusual circumstances. Since there appear to be no unusual circumstances that would permit splitting the Youngstown-Warren-Boardman MSA, OPM proposes to redefine Mercer County to the Cleveland wage area so that the entire Youngstown-Warren-Boardman MSA is in one wage area. The remaining county in the Youngstown-Warren-Boardman MSA, Trumbull County, is already defined to the Cleveland wage area. There are currently two FWS employees working in Mercer County.

CFR Corrections

In addition, this proposed rule renames the Champaign-Urbana, IL, FWS wage area as the Central Illinois FWS wage area because this name better describes the boundaries of the wage area. This proposed rule also updates the name of the White Sands Proving Ground in the Albuquerque, NM, and El Paso, TX, wage areas because the Department of Defense now refers to it as that White Sands Missile Range. OPM announced these changes in interim (65 FR 48641) and final (65 FR 64337) rules published in 2000. However, Champaign-Urbana and White Sands Proving Ground continue to appear incorrectly in Appendix A to Subpart B of Part 532 and/or Appendix C to Subpart B of Part 532.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix A to Subpart B of Part 532 [Amended]

2. In appendix A to subpart B of part 532, under the State of Illinois, revise the wage-area entry “Champaign-Urbana” to read “Central Illinois”.

3. In appendix C to subpart B of part 532, under the State of Illinois, revise the wage-area entry “Champaign-Urbana” to read “Central Illinois” and revise the wage area listings for the Southern Missouri; St. Louis, MO; Albuquerque, NM; Cleveland, OH; Pittsburgh, PA; and El Paso, TX, wage areas to read as follows:

Appendix C to Subpart B of Part 532—Appropriated Fund Wage and Survey Areas

* * * * *
MISSOURI
* * * * *
St. Louis
Survey Area
Illinois:
Clinton
Madison
Monroe
St. Clair
Missouri: (city)
St. Louis
Missouri: (counties)
Franklin
Jefferson
St. Charles
St. Louis
Area of Application. Survey area plus:
Illinois:
Alexander
Bond
Calhoun
Clay
Effingham
Fayette
Franklin
Greene
Hamilton
Jackson
Jefferson
Jersey
Johnson
Macoupin
Marion
Massac
Montgomery
Morgan
Perry
Pike
Pope
Pulaski
Randolph
Saline
Scott
Union
Washington
Wayne
Williamson
Missouri:
Audrain
Bollinger
Boone
Callaway
Cape Girardeau
Clark
Cole
Crawford
Gasconade
Knox
Lewis
Lincoln
Marion
Moniteau
Monroe
Montgomery
Osage
Perry
Pike
Ralls
Randolph
St. Francois
Ste. Genevieve
Scotland
Shelby
Warren
Washington
Southern Missouri
Survey Area
Missouri:
Christian
Greene
Laclede
Phelps
Pulaski
Webster
Area of Application. Survey area plus:
Kansas:
Cherokee
Crawford
Missouri:
Barry
Barton
Benton
Butler
Camden
Carter
Cedar
Dade
Dallas
Dent
Douglas
Hickory
Howell
Iron
Jasper
Lawrence
Madison
Maries
Miller
Mississippi
Morgan
New Madrid
Newton
Oregon
Ozark
Polk
Reynolds
Ripley
St. Clair
Scott
Shannon
Stoddard
Stone
Taney
Texas
Vernon
Wayne
Wright
* * * * *
NEW MEXICO
Albuquerque
Survey Area
New Mexico:
Bernalillo
Sandoval
Area of Application. Survey area plus:
New Mexico:
Catron
Cibola
Colfax
Curry
De Baca
Guadalupe
Harding
Lincoln (Does not include White Sands Missile Range portion)
Los Alamos
Mora
Quay
Rio Arriba
Roosevelt
San Miguel
Santa Fe
Socorro (Does not include White Sands Missile Range portion)
Taos
Torrance
Union
Valencia
* * * * *
OHIO
* * * * *
Cleveland
Survey Area
Ohio:
Cuyahoga
Geauga
Lake
Medina
Area of Application. Survey area plus:
Ohio:
Ashland
Ashtabula
Carroll
Columbiana
Erie
Huron
Lorain
Mahoning
Ottawa
Portage
Sandusky
Seneca
Stark
Summit
Trumbull
Wayne
Pennsylvania:
Mercer
* * * * *
PENNSYLVANIA
* * * * *
Pittsburgh
Survey Area
Pennsylvania:
Allegheny
Beaver
Butler
Washington
Westmoreland
Area of Application. Survey area plus:
Ohio:
Belmont
Harrison
Jefferson
Tuscarawas
Pennsylvania:
Armstrong
Bedford
Blair
Cambria
Cameron
Centre
Clarion
Clearfield
Clinton
Crawford
Elk (Does not include the Allegheny National Forest portion)
Erie
Fayette
Forest (Does not include the Allegheny National Forest portion)
Greene
Huntingdon
Indiana
Jefferson
Lawrence
Potter
Somerset
Venango
West Virginia:
Brooke
Hancock
Marshall
Ohio
* * * * *
TEXAS
* * * * *
El Paso
Survey Area
New Mexico:
Dona Ana
Otero
Texas:
El Paso
Area of Application. Survey area plus:
New Mexico:
Chaves
Eddy
Grant
Hidalgo
Lincoln (Only White Sands Missile Range portion)
Luna
Sierra
Socorro (Only White Sands Missile Range portion)
Texas:
Culberson
Hudspeth
* * * * *

[FR Doc. 2012-27671 Filed 11-14-12; 8:45 am]

BILLING CODE 6325-39-P